DEPARTMENT OF THE INTERIOR

Bureau of Reclamation

Change of Use for the Mark Twain Recreation Area Lake Access, New Melones Lake, Tuolumne County, CA

AGENCY: Bureau of Reclamation, Interior.

ACTION: Notice of change in use of public access.

SUMMARY: The Bureau of Reclamation's New Melones Recreation Resource Office will change public use of the Mark Twain Recreation Area Lake Access, located within a special use area, near the Park Administration and Visitor Center at new Melones Lake. The public use will change from launching of trailered boats of any size to launching of small boats by hand only. Boats will be limited to canoes, kayaks, rowboats, skiffs, or small boats with up to a ten horsepower motor that can be hand carried. With this change in use, vehicles, including motorcycles, will no longer be permitted to drive to the water's edge to launch boats or for other purposes. The location of vehicle access will vary due to fluctuating water level of the lake, irregularity of the shoreline and eroded nature of the former roadway which is used for lake access. However, Reclamation intends to manage vehicle access to allow public vehicles to within approximately 100-200 feet of the water. Other authorized recreation activities will not be affected. This change in use will serve to enhance public safety and water quality, while providing for recreation and protection of cultural and natural resources in the area.

EFFECTIVE DATES: The change of use will become effective April 1, 2008 and continue indefinitely.

ADDRESSES: A map of the proposed change is available at Reclamation's New Melones Lake Visitor Center, located at 6840 Studhorse Flat road, Sonora, California 95370. The Visitor Center is open to the public from 10 a.m. and 4 p.m., Wednesday through Sunday. The map is also on the New Melones Web site at: http://www.usbr.gov/mp/ccao/field_offices/new_melones/index.html. To have a map mailed to you, fax your request to 209-536-9652 or send your request to the address above, Attention: Mark Twain Change of Use Map Request.

FOR FURTHER INFORMATION CONTACT: Bureau of Reclamation, Mid-Pacific Region, Public Affairs Office, at 916-978-5100, or contact Peggi Brooks, Resource Manager, New Melones Recreation Resource Office via e-mail at pbrooks@mp.usbr.gov or by telephone at 209-536-9094.

SUPPLEMENTARY INFORMATION: This action is being taken under 43 CFR part 423 to protect public safety and prevent additional resource degradation. Reclamation will change public use of the Mark Twain Recreation Area Lake Access, located within a special use area near the Park Administration and Visitor Center at New Melones Lake. The public use will change from launching of trailered boats of any size to launching of small boats by hand only. Boat launching will be limited to canoes, kayaks, rowboats, skiffs, or small boats with up to a ten horsepower motor that can be hand carried. With this change in use, vehicles, including motorcycles, will no longer be permitted to drive to the water's edge to launch boats or for other purposes. The location of vehicle access will vary due to fluctuation water level of the lake, irregularity of the shoreline, and eroded nature of the former roadway which is used for lake access. However Reclamation intends to manage vehicle access to allow public vehicles to within approximately 100-200 feet of the water. Boats entering the Mark Twain cove from the lake will be required to comply with the posted “No Wake” zone to provide for public safety.

Presently this area is being used for shoreline fishing, swimming, hiking and launching of boats of all sizes via trailers and by hand. These multi-use activities have caused visitor conflict issues in addition to health and safety hazards to the public. The narrow access roadway to the Mark Twain Recreation Area Lake Access is via old State Highway 49 which ends directly at the reservoir. Below gross pool level, the former road is severely degraded with uneven pavement, steep drop-offs, ruts and gullies making it unsafe for launching of trailered vessels. Unrestricted vehicle access to the water's edge has resulted in illegal dumping of refuse and hazardous materials into the lake, jeopardizing water quality, and public health. Cultural and natural resources in this area are also being damaged by vehicles traveling illegally off-road and wave erosion due to operation of boats at high speeds. In addition, during periods of peak use the design capacity of this area is often exceeded, making it unsafe to operate vehicles, restricting access for emergency medical services, and endangering visitors. This congestion is causing visitors to park on the adjacent State Highway 49 road shoulders in an unsafe manner.

The Mark Twain Recreation Area Lake Access will remain open to other authorized public recreational activities including but not limited to fishing, had launching of boats under ten horsepower, wildlife viewing, hiking, and sightseeing. Public foot and bicycle access will not be impeded.

Reclamation will implement the change of use by placing vehicle barriers across the roadway to restrict public vehicle access to approximately 100-200 feet away from the water's edge. The exact placement of barriers will vary depending on lake elevation and physical constraints which could impact public safety and/or resource protection. Removable locking posts will be installed at different elevations to allow for emergency access. The public will be notified of the changes through signage, newspaper press releases, and website postings.

This order is posted in accordance with 43 CFR 423.60. Violation of this prohibition or any prohibition listed in 43 CFR part 423 is punishable by fine or imprisonment of not more than six months, or both.

Dated: January 14, 2008.
Robert Schroeder,
Acting Area Manager, Central California Area Office.

[FR Doc. 08-650 Filed 2-12-08; 8:45 am]

BILLING CODE 4310-MN-M